DEPARTMENT OF COMMERCE

National Oceanic and Atmospheric Administration

[I.D. 062901D]

Marine Mammals; Permits

AGENCY: National Marine Fisheries Service (NMFS), National Oceanic and Atmospheric Administration (NOAA), Commerce.

ACTION: Receipt of applications No. 42-1642, 555-1638 and 782-1645; and receipt of application to amend Permit No. 376-1520-01.

SUMMARY: Notice is hereby given of the following actions for takes of marine mammal species for the purposes of scientific research:

NMFS has received permit applications from: Mystic Aquarium, 55 Coogan Blvd., Mystic, CT 06355 (Dr. Lisa Mazarro, Principal Investigator) (Application No. 42-1642); James Harvey, Moss Landing Marine Laboratories, 8272 Moss Landing Road, Moss Landing, CA 95039 (Application No. 555-1638); and NMFS, National Marine Mammal Laboratory, 7600 Sand Point Way, N.E., BIN C15700, Seattle, WA 98115-0070 (Dr. Robert DeLong, Principal Investigator) (Application No. 782-1645); and NMFS has received an application for a permit amendment from Jim Hain, Associated Scientists at Woods Hole, Box 721, Woods Hole, MA 02543 (Permit No. 376-1520-01).

DATES: Written or telefaxed comments must be received on or before August 30, 2001.

ADDRESSES: The application and related documents are available for review upon written request or by appointment. See SUPPLEMENTARY INFORMATION.

FOR FURTHER INFORMATION CONTACT: Ruth Johnson, Tammy Adams, or Amy Sloan, (301) 713-2289.

SUPPLEMENTARY INFORMATION: The subject permits and permit amendment are requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.)

Applications for Permits Received

For Application No. 42-1642, the applicant requests permission to study metabolic clearance rates of vitamins A and E using isotope tracers and vitamin analogs in captive Steller sea lions, relation to various life history stages, establish the vitamin A and E status of free-ranging Steller sea lions, determine the metabolic requirements for these vitamins by relating intake to blood levels in captive specimens, and receive or import serum and milk samples from captive marine mammals held in facilities within the United States and abroad to study the disease hemochromatosis (an excessive accumulation of iron in tissues often associated with hepatic lesions) as well as others associated with general marine mammal health.

For Application No. 555-1638, the applicant requests permission to conduct research on 22 cetacean species and 5 pinniped species in the North Pacific Ocean along the coasts of California, Oregon, Washington, and Alaska (below the Aleutian Islands) in order to study the following: distribution and abundance related to environmental factors; prey and foraging behaviors; health and stock structure of individuals; effects of anthropogenic factors (i.e., vessel noise) on acoustic signals; and movements of individuals or pods during migrations or within their home range. This research will be accomplished using aerial and shipboard line-transect survey methods, monitoring of radio-tagged individuals, recording behavior and vocalizations, collecting biopsy samples from cetaceans, and collecting blood and morphometric measurements from small cetaceans and pinnipeds.

For Application No. 782-1645, the applicant requests permission to capture and attach radio-telemetry devices to harbor porpoises (Phocoena phocoena) off the coasts of Oregon and Washington to monitor the movements of tagged animals relative to current stock boundaries, and to collect blubber biopsies to determine organochlorine contaminant burdens.

Application to Amend a Permit Received

For Permit No. 376-1520-01, the Permit authorizes the Holder to approach a variety of cetacean species to conduct photo-identification and behavioral observations. The approach distances in the permit are currently limited to : within 100 ft (31 m) by vessel, 200 ft (61 m) directly above and 350 ft (107 m) slant range by aircraft for all species except North Atlantic right whales (Eubalaena glacialis), and within 700 ft (213 m) directly above and at slant range in fixed- and rotary-winged aircraft, and 500 ft (152 m) directly above and 350 ft (107 m) slant range using an aerostat (blimp) for right whales. The holder now requests permission to approach North Atlantic right whales within 100 ft (31 m) in a variety of small vessels, including kayaks, for the purpose of photo-identification.

In compliance with the National Environmental Policy Act of 1969 (42 U.S.C. 4321 et seq.), an initial determination has been made that the activities proposed are categorically excluded from the requirement to prepare an environmental assessment or environmental impact statement.

Written comments or requests for a public hearing on any of these applications should be mailed to the Chief, Permits and Documentation Division, F/PR1, Office of Protected Resources, NMFS, 1315 East-West Highway, Room 13705, Silver Spring, MD 20910. Those individuals requesting a hearing should set forth the specific reasons why a hearing on the particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of these applications to the Marine Mammal Commission and its Committee of Scientific Advisors.

Documents may be reviewed in the following locations:

For all permit applications and the application to amend a permit: Permits and Documentation Division, Office of Protected Resources, NMFS, 1315 East-West Highway, Room 13705, Silver Spring, MD 20910; phone (301) 713-2289; fax (301) 713-0376;

For Applications No. 42-1642, 555-1638, and 782-1645: Northwest Region, NMFS, 7600 Sand Point Way NE, BIN C15700, Bldg. 1, Seattle, WA 98115-0700; phone (206) 526-6150; fax (206) 526-6426;

For Applications No. 42-1642 and 555-1638: Alaska Region, NMFS, P.O. Box 21668, Juneau, AK 99802-1668; phone (907) 586-7221; fax (907) 586-7249;

For Applications No. 42-1642 and 555-1638: Southwest Region, NMFS, 501 West Ocean Blvd., Suite 4200, Long Beach, CA 90802-4213; phone (562) 980-4001; fax (562) 980-4018;

For Application No. 555-1638: Protected Species Coordinator, Pacific Area Office, NMFS, 1601 Kapiolani Blvd., Rm, 1110, Honolulu, HI 96814-4700; phone (808) 973-2935; fax (808) 973-2941;

For Application No. 42-1642 and Permit No. 376-1520-01: Northeast Region, NMFS, One Blackburn Drive, Gloucester, MA 01930-2298; phone (978) 281-9200; fax (978) 281-9371;

For Application No. 42-1642 and Permit No. 376-1520-01: Southeast Region, NMFS, 9721 Executive Center Drive North, St. Petersburg, FL 33702-2432; phone (727) 570-5301; fax (727) 570-5320.

Dated: July 24, 2001.
Ann D. Terbush,
Chief, Permits and Documentation Division, Office of Protected Resources, National Marine Fisheries Service.

[FR Doc. 01-19062 Filed 7-30-01; 8:45 am]

BILLING CODE 3510-22-S